DEPARTMENT OF ENERGY

Energy Employees Occupational Illness Compensation Act of 2000; List of Covered Facilities

AGENCY: Department of Energy.

ACTION: Notice of listing of covered facilities.

SUMMARY: The Energy Employees Occupational Illness Compensation Act of 2000 (“Act”), Public Law 106-398, establishes a program to provide compensation to individuals who developed illnesses as a result of their employment in nuclear weapons production-related activities and at certain federally-owned facilities in which radioactive materials were used. On December 7, 2000, the President issued Executive Order 13179 (“Order”) directing the Department of Energy (“Department” or “DOE”) to list covered facilities in the Federal Register. This notice responds to both the Act and the Order.

FOR FURTHER INFORMATION CONTACT: Office of Worker Advocacy, 1-877-447-9756.

ADDRESSES: The Department welcomes comments on this list. Individuals who wish to suggest additional facilities for inclusion on the list, indicate why one or more facilities should be removed from the list, or provide other information may contact: Office of Worker Advocacy (EH-8), U.S. Department of Energy, 1000 Independence Avenue, SW., Washington, DC 20585, email: worker_advocacy@eh.doe.gov, toll-free: 1-877-447-9756.

SUPPLEMENTARY INFORMATION: Purpose: The Energy Employees Occupational Illness Compensation Act of 2000 (“Act”), Public Law 106-398, establishes a program to provide compensation to individuals who developed illnesses as a result of their employment in nuclear weapons production-related activities and at certain federally-owned facilities in which radioactive materials were used. On December 7, 2000, the President issued Executive Order 13179 (“Order”) directing the Department of Energy (“Department” or “DOE”) to list covered facilities in the Federal Register. Section 2. c. vii of the Order instructs the Department to list three types of facilities:

(1) Atomic weapons employer facilities, as defined in section 3621 (4) of the Act;

(2) Department of Energy facilities, as defined by section 3621 (12) of the Act; and

(3) Beryllium vendors, as defined by section 3621 (6) of the Act.

Compensation options and mechanisms are defined differently for each of these facility categories. The atomic weapons employer category includes facilities in which the primary work was not related to atomic weapons, and consequently these facilities are not commonly known as atomic weapons facilities. Their inclusion in this list is consistent with the Act, and is not intended as a classification for any other purpose.

The list at the end of this notice represents the Department's best efforts to date to compile a list of facilities in these three categories. Reconstructing the operational history of the nuclear weapons system over a sixty-year period is a complex and sometimes imprecise undertaking. Some list entries are based on records that contain the names and addresses of companies and facilities at the time work was performed for the Department and its predecessor federal agencies. The list may identify a corporate headquarters facility as a production location, or may contain some inadvertent duplication because of changes in names, ownership, and addresses. Similarly, attempts to minimize duplication may have resulted in the inadvertent omission of subsidiaries and satellite locations that should be included. Accordingly, the Department is continuing its research efforts in order to better understand past production activities, and DOE intends to update this list at least once annually so long as new information becomes available. The public is invited to comment on the list and to provide additional information.

In addition to continuing its research efforts, the Department is developing information dissemination mechanisms to make facility-specific data available to the public, including a publicly accessible database of site-related information. This database will help ensure that the Department keeps track of facilities involved in atomic weapons and other work potentially resulting in contamination or exposure. The site database will include, among other information, the type of nuclear weapons-related production work done, the dates such work occurred, and available health and safety data concerning the facility. The listing of facility name and location in this notice represents only a first step in providing information to the public.

The Act does not cover workers involved in uranium mining and milling, or those who worked in support of naval nuclear propulsion programs. Consequently, facilities associated with this type of work are not listed in this notice. Some workers who became ill as a result of their employment at these facilities may be covered by other programs such as the Radiation Exposure Compensation Act (RECA), the Federal Exposure Compensation Act (FECA), or other jurisdictions' worker compensation programs.

Introduction to the Covered Facility List

The list that follows covers the three categories of employers defined by the Act: atomic weapons employers (“AWE”), Department of Energy facilities (“DOE”), and beryllium vendors (“BE”). Some facilities fall into more than one category. For example, if a private contractor facility handled both radioactive materials and beryllium, it will have “AWE” and “BE” in the “facility type” column. For another example, a facility will have both “DOE” and “AWE” codes if ownership changed between the DOE and another entity. The Department intends to provide facility-specific explanations of the applicability of these categories through the database mentioned above.

Each of the categories is defined below:

1. Atomic Weapons Employers

Section 3621 (4) of the Act defines an atomic weapons employer as “an entity that—

(A) processed or produced, for the use by the United States, material that emitted radiation and was used in the production of an atomic weapon, excluding uranium mining and milling; and

(B) is designated as an atomic weapons employer for purposes of this title by the Secretary of Energy.”

Most facilities listed as an AWE conducted nuclear weapons-related work for a limited period of time or in certain select areas of the plant. For example, some sites worked with radioactive materials to evaluate processing machinery that was being considered for use in atomic weapons production. Radioactive materials may not have been used as a routine part of the facility's operations. The Act covers those workers who became sick as a consequence of their work in support of nuclear weapons production activities, and was not intended to cover all workers at each site named.

The lines between research, atomic weapons production, and non-weapons production are often difficult to draw. For the purposes of this notice, and as directed by the Act, only those facilities whose work involved radioactive material that was connected to the weapons production chain are included. Available information about many of these facilities is incomplete or unclear, and the Department welcomes comments or additional information regarding facilities that may have supported atomic weapons production that are not on this list, as well as information that clarifies the work done at facilities named below.

2. Department of Energy Facilities

Section 3621 (12) of the Act defines a DOE facility as “any building, structure, or premise, including the grounds upon which such building, structure, or premise is located—

(A) in which operations are, or have been, conducted by, or on behalf of, the Department of Energy (except for buildings, structures, premises, grounds, or operations covered by Executive Order 12344, pertaining to the Naval Nuclear Propulsion Program); and

(B) with regard to which the Department of Energy has or had—

(i) A proprietary interest; or

(ii) Entered into a contract with an entity to provide management and operation, management and integration, environmental remediation services, construction, or maintenance services.”

Consistent with this definition, the Department has taken a broad view of where operations have been conducted by DOE or its predecessor agencies. The list includes any facility handling radioactive materials or beryllium in which the Department had management and operations, management and integration, environmental remediation, or construction and maintenance contracts. This broad definition includes many facilities which are not generally thought of as Departmental facilities, as well as facilities which are not necessarily involved with weapons-related work. For example, some universities and private companies are included because the Department contracted for environmental remediation services at these sites, even though the Department did not own the facility. Also, some DOE-owned laboratories are included because they do work involving radioactive materials, even though that work is not related to nuclear weapons production.

The Act covers production workers at the gaseous diffusion plants at Paducah, KY and Piketon, OH. Production workers at these facilities are covered for work conducted until July 28, 1998, when the facilities were privatized under the control of the United States Enrichment Corporation (USEC, Inc.)

The listing of Department of Energy facilities is only intended for the context of implementing this Act and does not create or imply any new Departmental obligations or ownership at any of the facilities named on this list.

3. Beryllium Vendors

Section 3621(6) of the Act defines beryllium vendor as the following:

“(A) Atomics International.

(B) Brush Wellman, Incorporated, and its predecessor, Brush Beryllium Company.

(C) General Atomics.

(D) General Electric Company.

(E) NGK Metals Corporation and its predecessors, Kawecki-Berylco, Cabot Corporation, BerylCo, and Beryllium Corporation of America.

(F) Nuclear Materials and Equipment Corporation.

(G) StarMet Corporation, and its predecessor, Nuclear Metals, Incorporated.

(H) Wyman Gordan, Incorporated.

(I) Any other vendor, processor, or producer of beryllium or related products designated as a beryllium vendor for purposes of this title under Section 3622.”

Beryllium metal has been an important material for atomic weapons production, and it was used at many places throughout the production system. The list indicates private firms that processed, produced, or provided beryllium metal for the Department, as defined by the Act. This information is drawn from a variety of historical documents, and much data remains incomplete. The Department welcomes comments or additional information about its beryllium vendors.

Covered Facility List

Jurisdiction | Facility name | Location | Facility type
AL | Southern Research Institute | Sylacauga | AWE
AL | Speed Ring Experimental & Tool Company | Culman | BE
AL | Tennessee Valley Authority | Muscle Shoals | AWE
AK | Amchitka Island Nuclear Explosion Site | Amchitka Island | DOE
AK | Project Chariot Site | Cape Thompson | DOE
CA | Arthur D. Little Co. | San Francisco | AWE
CA | Atomics International | Canoga Park | BE
CA | Burris Park Field Station | Kingsburg | AWE
CA | Ceradyne, Inc. | Santa Ana | BE
CA | Dow Chemical Co. | Walnut Creek | AWE
CA | Electro Circuits, Inc. | Pasadena | AWE
CA | Energy Technology Engineering Center | Santa Susana | DOE
CA | General Atomics | La Jolla | AWE/BE/DOE
CA | General Electric Vallecitos | Pleasanton | AWE
CA | Hunter Douglas Aluminum Corp. | Riverside | AWE
CA | Laboratory for Energy-Related Health Research | Davis | DOE
CA | Laboratory of Biomedical and Environmental Sciences | Los Angeles | DOE
CA | Laboratory of Radiobiology and Environmental Health | San Francisco | DOE
CA | Lawrence Berkeley National Laboratory | Berkeley | DOE
CA | Lawrence Livermore National Laboratory | Livermore | DOE
CA | Sandia Laboratory, Salton Sea Base | Imperial County | DOE
CA | Sandia National Laboratories—Livermore | Livermore | DOE
CA | Stanford Linear Accelerator Center | Palo Alto | DOE
CA | Stauffer Metals, Inc. | Richmond | AWE
CA | University of California | Berkeley | AWE/DOE
CO | Coors Porcelain | Golden | BE
CO | Project Rio Blanco Nuclear Explosion Site | Rifle | DOE
CO | Project Rulison Nuclear Explosion Site | Grand Valley | DOE
CO | Rocky Flats Plant | Golden | DOE
CO | Shattuck Chemical | Denver | AWE
CO | University of Denver Research Institute | Denver | AWE/BE
CT | American Chain and Cable Co. | Bridgeport | AWE
CT | Anaconda Co. | Waterbury | AWE
CT | Bridgeport Brass Co., Havens Lab. | Bridgeport | AWE
CT | Combustion Engineering | Windsor | AWE/DOE
CT | Connecticut Aircraft Nuclear Engine Lab. (CANEL) | Middletown | BE/DOE
CT | Dorr Corp. | Stamford | AWE
CT | Fenn Machinery Co. | Hartford | AWE
CT | New England Lime Co. | Canaan | AWE
CT | Seymour Specialty Wire | Seymour | AWE/DOE
CT | Sperry Products, Inc. | Danbury | AWE
CT | Torrington Co. | Torrington | AWE
DE | Allied Chemical and Dye Corp. | North Claymont | AWE
DC | National Bureau of Standards, Van Ness Street | Washington | AWE
DC | Naval Research Laboratory | Washington | AWE/DOE
FL | American Beryllium Co. | Sarasota | BE
FL | Armour Fertilizer Works | Bartow | AWE
FL | C.F. Industries, Inc. | Bartow | AWE
FL | Gardinier, Inc. | Tampa | AWE
FL | International Minerals and Chemical Corp | Mulberry | AWE
FL | Pinellas Plant | Clearwater | DOE
FL | University of Florida | Gainesville | AWE
FL | Virginia-Carolina Chemical Corp | Nichols | AWE
FL | W.R. Grace Co., Agricultural Chemical Div | Ridgewood | AWE
ID | Argonne National Laboratory—West | Scoville | DOE
ID | Idaho National Engineering Laboratory | Scoville | DOE
IL | Allied Chemical Corp. | Metropolis | AWE
IL | American Machine and Metals, Inc. | E. Moline | AWE
IL | Argonne National Laboratory-East | Argonne | DOE
IL | Armour Research Foundation | Chicago | AWE
IL | Blockson Chemical Co | Joliet | AWE
IL | C-B Tool Products Co. | Chicago | AWE
IL | Crane Co. | Chicago | AWE
IL | ERA Tool and Engineering Co. | Chicago | AWE
IL | Fansteel Metallurgical Corp. | North Chicago | BE
IL | Fermi National Accelerator Laboratory | Batavia | DOE
IL | Granite City Steel | Granite City | AWE/DOE
IL | Great Lakes Carbon Corp. | Chicago | AWE
IL | GSA 39th Street Warehouse | Chicago | AWE
IL | International Register | Chicago | AWE
IL | Kaiser Aluminum Corp. | Dalton | AWE
IL | Lindsay Light and Chemical Co. | W. Chicago | AWE
IL | Madison Site (Speculite) | Madison | AWE/DOE
IL | Midwest Manufacturing Co. | Galesbury | AWE
IL | Museum of Science and Industry | Chicago | AWE
IL | National Guard Armory | Chicago | AWE/DOE
IL | Podbeliniac Corp. | Chicago | AWE
IL | Precision Extrusion Co. | Bensenville | AWE
IL | Quality Hardware and Machine Co. | Chicago | AWE
IL | R. Krasburg and Sons Manufacturing Co. | Chicago | AWE
IL | Sciaky Brothers, Inc. | Chicago | AWE
IL | Swenson Evaporator Co. | Harvey | AWE
IL | University of Chicago | Chicago | AWE/DOE
IL | W.E. Pratt Manufacturing Co. | Joliet | AWE
IL | Wycoff Drawn Steel Co. | Chicago | AWE
IN | American Bearing Corp. | Indianapolis | AWE
IN | Dana Heavy Water Plant | Dana | DOE
IN | General Electric Plant | Shelbyville | AWE
IN | Joslyn Manufacturing and Supply Co | Ft. Wayne | AWE
IN | Purdue University Van der Graaf Lab | Lafayette | AWE
IN | Washrite | Indianapolis | AWE
IA | Ames Laboratory | Ames | DOE
IA | Iowa Ordnance Plant | Burlington | DOE
IA | Titus Metals | Waterloo | AWE
KS | Spencer Chemical Co., Jayhawks Works | Pittsburg | AWE
KY | Paducah Gaseous Diffusion Plant | Paducah | DOE
MR* | Eniwetok Test Site | Marshall Islands | DOE
MD | Armco-Rustless Iron & Steel | Baltimore | AWE
MD | W.R. Grace and Company | Curtis Bay | AWE/DOE
MA | American Potash & Chemical | West Hanover | AWE
MA | C.G. Sargent & Sons | Graniteville | AWE
MA | Chapman Valve | Indian Orchard | AWE/DOE
MA | Edgerton Germeshausen & Grier, Inc. | Boston | AWE
MA | Fenwal, Inc. | Ashland | AWE
MA | Franklin Institute | Boston | BE
MA | Heald Machine Co. | Worcester | AWE
MA | La Pointe Machine and Tool Co. | Hudson | AWE
MA | Massachusetts Institute of Technology | Cambridge | AWE/BE
MA | Metals and Controls Corp. | Attleboro | AWE
MA | National Research Corp. | Cambridge | AWE
MA | Norton Co. | Worcester | AWE/BE
MA | Nuclear Metals, Inc. | Concord | AWE/BE
MA | Reed Rolled Thread Co. | Worcester | AWE
MA | Shpack Landfill | Norton | AWE/DOE
MA | Ventron Corporation | Beverly | AWE/DOE
MA | Winchester Engineering and Analytical Center | Winchester | DOE
MA | Woburn Landfill | Woburn | AWE
MA | Wyman Gordon Inc. | Grayton, North Grafton | BE
MI | AC Spark Plug | Flint | BE
MI | Baker-Perkins Co. | Saginaw | AWE
MI | Carboloy Co. | Detroit | AWE
MI | Extruded Metals Co. | Grand Rapids | AWE
MI | General Motors | Adrian | AWE/DOE
MI | Gerity-Michigan Corp. | Adrian | BE
MI | Mitts & Merrel Co. | Saginaw | AWE
MI | Oliver Corp. | Battle Creek | AWE
MI | Revere Copper and Brass | Detroit | AWE/BE
MI | Speed Ring Experimental & Tool Company | Detroit | BE
MI | Star Cutter Corp. | Farmington | AWE
MI | University of Michigan | Ann Arbor | AWE
MI | Wolverine Tube Division | Detroit | AWE
MN | Elk River Reactor | Elk River | DOE
MS | Salmon Nuclear Explosion Site | Hattiesburg | DOE
MO | Kansas City Plant | Kansas City | DOE
MO | Latty Avenue Properties | Hazelwood | AWE/DOE
MO | Mallinckrodt Chemical Co., Destrehan St. Plant | St. Louis | AWE/DOE
MO | Medart Co. | St. Louis | AWE
MO | Roger Iron Co. | Joplin | AWE
MO | Spencer Chemical Co. | Kansas City | AWE
MO | St. Louis Airport Site | St. Louis | AWE/DOE
MO | Tyson Valley Powder Farm | St. Louis | AWE
MO | United Nuclear Corp. | Hematite | AWE
MO | Weldon Spring Plant | Weldon Spring | DOE
NE | Hallam Sodium Graphite Reactor | Hallam | DOE
NV | Nevada Test Site | Mercury | DOE
NV | Project Faultless Nuclear Explosion Site | Central Nevada Test Site | DOE
NV | Project Shoal Nuclear Explosion Site | Fallon | DOE
NV | Yucca Mountain Site Characterization Project | Yucca Mountain | DOE
NJ | Aluminum Co. of America (Alcoa) | Garwood | AWE
NJ | American Peddinghaus Corp. | Moonachle | AWE
NJ | Baker and Williams Co. | Newark | AWE
NJ | Bell Telephone Laboratories | Murray Hill | AWE
NJ | Bloomfield Tool Co. | Bloomfield | AWE
NJ | Bowen Lab. | North Branch | AWE
NJ | Callite Tungsten Co. | Union City | AWE
NJ | Chemical Construction Co. | Linden | AWE
NJ | Du Pont Deepwater Works | Deepwater | AWE/DOE
NJ | International Nickel Co., Bayonne Laboratories | Bayonne | AWE
NJ | J.T. Baker Chemical Co. | Phillipsburg | AWE
NJ | Kellex/Pierpont | Jersey City | AWE/DOE
NJ | Maywood Chemical Works | Maywood | AWE/DOE
NJ | Middlesex Municipal Landfill | Middlesex | AWE/DOE
NJ | Middlesex Sampling Plant | Middlesex | DOE
NJ | National Beryllia | Haskell | BE
NJ | New Brunswick Laboratory | New Brunswick | DOE
NJ | Picatinny Arsenal | Dover | AWE
NJ | Princeton Plasma Physics Laboratory | Princeton | DOE
NJ | Rare Earths/ W.R. Grace | Wayne | AWE/DOE
NJ | Standard Oil Development Co. of NJ | Linden | AWE
NJ | Tube Reducing Co. | Wallington | AWE
NJ | U.S. Pipe and Foundry | Burlington | BE
NJ | United Lead Co. | Middlesex | AWE
NJ | Vitro Corp. of America | West Orange | AWE
NJ | Westinghouse Electric Corp. | Bloomfield | AWE
NJ | Wykoff Steel Co. | Newark | AWE
NM | Chupadera Mesa | Chupadera Mesa | DOE
NM | Los Alamos Medical Center | Los Alamos | DOE
NM | Los Alamos National Laboratory | Los Alamos | DOE
NM | Lovelace Respiratory Research Institute | Albuquerque | DOE
NM | Project Gasbuggy Nuclear Explosion Site | Farmington | DOE
NM | Project Gnome Nuclear Explosion Site | Carlsbad | DOE
NM | Sandia National Laboratories | Albuquerque | DOE
NM | South Albuquerque Works | Albuquerque | DOE
NM | Trinity Nuclear Explosion Site | White Sands Missile Range | DOE
NM | Waste Isolation Pilot Plant | Carlsbad | DOE
NY | Allegheny-Ludlum Steel | Watervliet | AWE
NY | American Machine and Foundry | Brooklyn | AWE
NY | Ashland Oil | Tonawanda | AWE/DOE
NY | Baker and Williams Warehouses | New York | AWE/DOE
NY | Bethlehem Steel | Lackawana | AWE
NY | Bliss & Laughlin Steel | Buffalo | AWE/DOE
NY | Brookhaven National Laboratory | Upton | DOE
NY | Burns & Roe, Inc. | Maspeth | BE
NY | Colonie Site (National Lead) | Colonie | AWE/DOE
NY | Columbia University | New York City | AWE/DOE
NY | Electro Metallurgical | Niagara Falls | AWE
NY | General Astrometals | Yonkers | BE
NY | Hooker Electrochemical | Niagara Falls | AWE
NY | International Rare Metals Refinery, Inc | Mt. Kisko | AWE
NY | Ithaca Gun Co. | Ithaca | AWE
NY | Lake Ontario Ordnance Works | Niagara Falls | DOE
NY | Ledoux and Co. | New York | AWE
NY | Linde Air Products | Buffalo | AWE
NY | Linde Ceramics Plant | Tonawanda | AWE/DOE
NY | New York University | New York | AWE
NY | Peek Street Facility** | Schenectady | DOE
NY | Radium Chemical Co. | New York | AWE
NY | Rensselaer Polytechnic Institute | Troy | AWE
NY | Sacandaga Facility** | Glenville | DOE
NY | Seaway Industrial Park | Tonawanda | AWE/DOE
NY | Seneca Army Depot | Romulus | AWE
NY | Separations Process Research Unit (at Knolls Lab.)** | Schenectady | DOE
NY | Simonds Saw and Steel Co. | Lockport | AWE
NY | Staten Island Warehouse | New York | AWE
NY | Sylvania Corning Nuclear Corp. | Hicksville | AWE/DOE
NY | Sylvania Products Corp. | Bayside | AWE/BE
NY | Titanium Alloys Manufacturing | Niagara Falls | AWE
NY | Trudeau Foundation | Saranac Lake | BE
NY | University of Rochester Medical Laboratory | Rochester | AWE/DOE
NY | Utica St. Warehouse | Buffalo | AWE
NY | West Valley Demonstration Project | West Valley | DOE
NC | Beryllium Metals and Chemical Corp | Bessemer City | BE
NC | University of North Carolina | Chapel Hill | BE
OH | Air Force Plant 36 | Evandale | AWE
OH | Ajax Magnathermic Corp. | Youngstown | AWE
OH | Alba Craft | Oxford | AWE/DOE
OH | Associated Aircraft Tool and Manufacturing Co | Fairfield | AWE/DOE
OH | B & T Metals | Columbus | AWE/DOE
OH | Baker Brothers | Toledo | AWE/DEL
OH | Battelle Columbus Laboratories | Columbus | AWE
OH | Battelle Memorial Institute | Columbus | AWE/BE/DOE
OH | Beryllium Production Plant (Brush) | Luckey | BE/DOE
OH | Brush Beryllium Co. | Elmore | AWE/BE
OH | Brush Beryllium Co. | Cleveland | AWE/BE
OH | Brush Beryllium Co. | Loraine | AWE/BE
OH | Cincinnati Milling Machine Co. | Cincinnati | AWE
OH | Clifton Products Co. | Clifton | BE
OH | Clifton Products Co. | Painesville | BE
OH | Copperweld Steel | Warren | AWE
OH | Du Pont-Grasselli Research Laboratory | Cleveland | AWE
OH | Extrusion Plant | Ashtabula | DOE
OH | Feed Materials Production Center | Fernald | DOE
OH | General Electric Company | Cincinnati/Evendale | AWE/BE/DOE
OH | Gruen Watch | Norwood | AWE
OH | Harshaw Chemical Co. | Cleveland | AWE
OH | Herring-Hall Marvin Safe Co. | Hamilton | AWE/DOE
OH | Horizons, Inc. | Cleveland | AWE
OH | Kettering Laboratory, University of Cincinnati | Cincinnati | BE
OH | Magnus Brass Co. | Cincinnati | AWE
OH | McKinney Tool and Manufacturing Co. | Cleveland | AWE
OH | Mitchell Steel Co. | Cincinnati | AWE
OH | Monsanto Chemical Co. | Dayton | AWE
OH | Mound Plant | Miamisburg | DOE
OH | Painesville Site (Diamond Magnesium Co.) | Painesville | AWE/DOE
OH | Piqua Organic Moderated Reactor | Piqua | DOE
OH | Portsmouth Gaseous Diffusion Plant | Piketon | DOE
OH | R. W. Leblond Machine Tool Co. | Cincinnati | AWE
OH | Tech-Art, Inc. | Milford | AWE
OH | Tocco Induction Heating Div. | Cleveland | AWE
OH | Vulcan Tool Co. | Dayton | AWE
OK | Kerr-McGee | Guthrie | AWE
OR | Albany Research Center | Albany | AWE/DOE
OR | Wah Chang | Albany | AWE
PA | Aeroprojects, Inc. | West Chester | AWE
PA | Aliquippa Forge | Aliquippa | AWE/DOE
PA | Aluminum Co. of America (Alcoa) | New Kensington | AWE
PA | Babcock & Wilcox | Parks Township | AWE
PA | Beryllium Corp. of America | Hazleton | BE
PA | Beryllium Corp. of America | Reading | BE
PA | Birdsboro Steel & Foundry | Birdsboro | AWE
PA | C.H. Schnoor | Springdale | AWE/DOE
PA | Carnegie Mellon Cyclotron Facility | Saxonburg | AWE
PA | Carpenter Steel Co. | Reading | AWE
PA | Chambersburg Engineering Co. | Chambersburg | AWE
PA | Foote Mineral Co. | East Whiteland Twp. | AWE
PA | Frankford Arsenal | Philadelphia | AWE
PA | Heppenstall Co. | Pittsburgh | AWE
PA | Jessop Steel Co. | Washington | AWE
PA | Koppers Co., Inc. | Pittsburgh | AWE
PA | Landis Machine Tool Co. | Waynesboro | AWE
PA | McDaniel Refractory Co. | Beaver Falls | BE
PA | Nuclear Materials and Equipment Corp. | Apollo | AWE/BE
PA | Penn Salt Co. | Philadelphia | AWE
PA | Philadelphia Naval Yard | Philadelphia | AWE
PA | Shippingport Atomic Power Plant | Shippingport | DOE
PA | Superior Steel Co. | Carnegie | AWE
PA | U.S. Steel Co., National Tube Division | McKeesport | AWE
PA | Vitro Manufacturing | Cannonsburg | AWE/BE
PA | Westinghouse Atomic Power Development Plant | East Pittsburgh | AWE
PR | BONUS Reactor Plant | Punta Higuera | DOE
PR | Puerto Rico Nuclear Center | Mayaguez | DOE
RI | C.I. Hayes, Inc. | Cranston | AWE
SC | Savannah River Site | Aiken | DOE
TN | Clarksville Facility | Clarksville | DOE
TN | Oak Ridge Gaseous Diffusion Plant (K-25) | Oak Ridge | DOE
TN | Oak Ridge Hospital | Oak Ridge | DOE
TN | Oak Ridge Institute for Science Education | Oak Ridge | DOE
TN | Oak Ridge National Laboratory (X-10) | Oak Ridge | DOE
TN | Vitro Corp. of America | Chattanooga | AWE/BE
TN | W. R. Grace | Erwin | AWE
TN | Y-12 Plant | Oak Ridge | DOE
TX | AMCOT | Forth Worth | AWE
TX | Mathieson Chemcial Co | Pasadena | AWE
TX | Medina Facility | San Antonio | DOE
TX | Pantex Plant | Amarillo | DOE
TX | Sutton, Steele and Steele Co. | Dallas | AWE
TX | Texas City Chemicals, Inc. | Texas City | AWE
VA | Babcock & Wilcox Co. | Lynchburg | AWE
VA | Thomas Jefferson National Accelerator Facility | Newport News | DOE
VA | University of Virginia | Charlottesville | AWE
WA | Hanford | Richland | DOE
WA | Pacific Northwest National Laboratory | Richland | DOE
WV | Huntington Pilot Plant | Huntington | AWE/DOE
WI | Allis-Chalmers Co. | West Allis, Milwaukee | AWE
WI | Besley-Wells | South Beloit | AWE
WI | LaCrosse Boiling Water Reactor | LaCrosse | DOE
WI | Ladish Co. | Cudahy | BE
*Marshall Islands.
**Consistent with the Act, coverage is limited to activities not performed under the responsibility of the Naval Nuclear Propulsion program.

Issued in Washington, D.C. January 10, 2001.
David M. Michaels,
Assistant Secretary, Environment, Safety and Health.

[FR Doc. 01-1329 Filed 1-16-01; 8:45 am]

BILLING CODE 6450-01-P